ENVIRONMENTAL PROTECTION AGENCY

[EPA-HQ-OPP-2021-0316; FRL-9809-01-OMS]

Information Collection Request Submitted to OMB for Review and Approval; Comment Request; Agricultural Worker Protection Standard Training, Notification and Recordkeeping (Renewal)

AGENCY: Environmental Protection Agency (EPA).

ACTION: Notice.

SUMMARY: The Environmental Protection Agency (EPA) has submitted an information collection request (ICR), Agricultural Worker Protection Standard Training, Notification and Recordkeeping (EPA ICR Number 2491.06, OMB Control Number 2070-0190) to the Office of Management and Budget (OMB) for review and approval in accordance with the Paperwork Reduction Act. This is a proposed extension of the ICR, which is currently approved through April 30, 2022. Public comments were previously requested via the Federal Register on August 3, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 27, 2022.

ADDRESSES: Submit your comments to EPA, referencing Docket ID No. EPA-HQ-OPP-2021-0316, online using www.regulations.gov (our preferred method), by email to siu.carolyn@epa.gov, or by mail to: EPA Docket Center, Environmental Protection Agency, Mail Code 2822T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division, Office of Program Support, Office of Chemical Safety and Pollution Prevention, Environmental Protection Agency (Mailcode: 7101M), 1200 Pennsylvania Ave. NW, Washington, DC 20460; telephone number: (202) 566-1205; email address: siu.carolyn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This Information Collection Request (ICR) estimates the recordkeeping and third-party response burden of paperwork activities that covers the information collection requirements contained in the Worker Protection Standard (WPS) regulations at 40 CFR part 170. Agricultural employers and commercial pesticide handling establishments (CPHEs) are responsible for providing required training, notifications and information to their employees to ensure worker and handler safety. The WPS regulation includes training for workers and handlers, posting of pesticide-treated areas, providing additional information for workers before they enter a pesticide-treated area while a restricted entry interval (REI) is in effect, access to more general and application-specific information about pesticides used on the establishment, and recordkeeping of training.

Form Numbers: None.

Respondents/affected entities: Employers of agricultural establishments, including employers in farms, nursery, forestry, and greenhouse establishments.

Respondent's obligation to respond: Mandatory under 40 CFR 170.

Estimated number of respondents: 865,555 (total).

Frequency of response: Annually or on occasion, depending on the activity.

Total estimated burden: 10,188,669 hours (per year). Burden is defined at 5 CFR 1320.03(b).

Total estimated cost: $480,131,806 (per year), includes $0 annualized capital or operation & maintenance costs.

Changes in the estimates: There is a decrease of 259,491 hours in the total estimated respondent burden compared with the ICR currently approved by OMB. This decrease is due to a decline in the number of respondents (farms and employees) since the last Census of Agriculture. This change is an adjustment.

Courtney Kerwin,
Director, Regulatory Support Division.

[FR Doc. 2022-09006 Filed 4-26-22; 8:45 am]

BILLING CODE 6560-50-P